DEPARTMENT OF TRANSPORTATION

Federal Aviation Administration

Notice of Intent To Request Approval From the Office of Management and Budget of a New Information Collection Activity, Request for Comments; Revisions to Digital Flight Data Recorder Regulations for Boeing 737 Airplanes and for All Part 125 Airplanes

AGENCY: Federal Aviation Administration (FAA), DOT.

ACTION: Notice and request for comments.

SUMMARY: The FAA invites public comments about our intention to request the Office of Management and Budget (OMB) to approve a new information collection. The FAA would amend the regulations governing flight data recorders to increase the number of digital flight data recorder parameters for certain Boeing airplanes.

DATES: Please submit comments by November 18, 2008.

FOR FURTHER INFORMATION CONTACT: Carla Mauney on (202) 267-9895, or by e-mail at: Carla.Mauneyfaa.gov.

SUPPLEMENTARY INFORMATION:

Federal Aviation Administration (FAA)

Title: Revisions to Digital Flight Data Recorder Regulations for Boeing 737 Airplanes and for All Part 125 Airplanes.

Type of Request: Reinstatement, without change, of a previously approved collection.

OMB Control Number: 2120-0616.

Form(s): There are no FAA forms associated with this collection.

Affected Public: A total of 2,960 Respondents.

Frequency: This is a passive information collection.

Estimated Average Burden per Response: This is a passive information collection activity. Responses are recorded automatically in the aircraft's digital flight data recorder.

Estimated Annual Burden Hours: An estimated 1 hour annually.

Abstract: The FAA would amend the regulations governing flight data recorders to increase the number of digital flight data recorder parameters for certain Boeing airplanes. This change is based on safety recommendations from the National Transportation Safety Board following its investigations of two accidents and several incidents involving 737s.

Addresses: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on September 12, 2008.
Carla Mauney,
FAA Information Collection Clearance Officer, IT Enterprises Business Services Division, AES-200.

[FR Doc. E8-21812 Filed 9-18-08; 8:45 am]

BILLING CODE 4910-13-M